DEPARTMENT OF TRANSPORTATION

Federal Aviation Administration

14 CFR Part 39

[Docket No. 2000-NM-223-AD]

RIN 2120-AA64

Airworthiness Directives; Airbus Model A300 B4-620, A310-203, A310-221, and A310-222 Series Airplanes

AGENCY: Federal Aviation Administration, DOT.

ACTION: Notice of proposed rulemaking (NPRM).

SUMMARY: This document proposes the adoption of a new airworthiness directive (AD) that is applicable to certain Airbus Model A300 B4-620, A310-203, A310-221, and A310-222 series airplanes. This proposal would require repetitive inspections of fuselage frame 07 in the upper frame section assemblies of the lateral cockpit windows, and corrective action, if necessary. Accomplishment of certain corrective actions would extend the repetitive inspection interval. This action is necessary to detect and correct fatigue cracking in that area, which could result in reduced structural integrity of the airplane. This action is intended to address the identified unsafe condition.

DATES: Comments must be received by February 8, 2001.

ADDRESSES: Submit comments in triplicate to the Federal Aviation Administration (FAA), Transport Airplane Directorate, ANM-114, Attention: Rules Docket No. 2000-NM-223-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-223-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket No. 2000-NM-223-AD.” The postcard will be date stamped and returned to the commenter.

Availability of NPRMs

Any person may obtain a copy of this NPRM by submitting a request to the FAA, Transport Airplane Directorate, ANM-114, Attention: Rules Docket No. 2000-NM-223-AD, 1601 Lind Avenue, SW., Renton, Washington 98055-4056.

Discussion

The Direction Générale de l'Aviation Civile (DGAC), which is the airworthiness authority for France, notified the FAA that an unsafe condition may exist on certain Airbus Model A300 B4-620, A310-203, A310-221, and A310-222 series airplanes. The DGAC has advised that, during a scheduled corrosion inspection in accordance with the Model A300 Corrosion Prevention and Control Programme (A300 CPCP), a crack of 100 millimeters in length was discovered forward of fuselage frame 07, in the upper frame section assembly of the lateral cockpit windows. When the crack was discovered, the airplane had accumulated 36,077 total flight hours and 30,733 total flight cycles. During the Model A300 full-scale fatigue test program, similar cracking was found at approximately 84,000 simulated flight cycles. The test results indicated that the onset of cracking could occur sooner than calculated from the original test results, suggesting the inspection threshold for this area of the airplane should be reduced from the threshold specified by the A300 CPCP. The cracking has been attributed to the effect of cabin pressure on the junction points, where thickness variations can lead to local bending and subsequent fatigue damage. If not corrected, the cracking could result in reduced structural integrity of the airplane.

Similar Model

The frame section is similar on all airplanes affected by this AD. Therefore, Model A310-203, A310-221, and A310-222 series airplanes are also subject to the identified unsafe condition.

Explanation of Relevant Service Information

Airbus has issued Service Bulletins A300-53-6120 (for Model A300-600 series airplanes) and A310-53-2109 (for Model A310 series airplanes), both dated May 5, 2000. These service bulletins describe procedures for repetitive detailed visual inspections of the upper frame section assemblies of the left and right forward lateral cockpit windows. The service bulletins describe temporary and permanent repairs for cracking. The temporary repair, which is acceptable if cracking is found only in a certain area, involves replacing a pick-up fitting and bracket with new parts, and installing a doubler. The permanent repair, which is recommended if any cracking is found in any other specified area, involves replacing the upper frame section assembly with a new assembly, which would reset the inspection threshold. The DGAC classified these service bulletins as mandatory and issued French airworthiness directive 2000-263-314(B), dated June 28, 2000, in order to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as described below.

Difference Between Proposed AD and Service Bulletins

Operators should note that, although the service bulletins specify that the manufacturer may be contacted for certain repair or inspection instructions, this proposal would require the repair or inspection to be accomplished in accordance with a method approved by either the FAA, or the DGAC (or its delegated agent). In light of the type of repair or inspection that would be required to address the identified unsafe condition, and in consonance with existing bilateral airworthiness agreements, the FAA has determined that, for this proposed AD, a repair or inspection approved by either the FAA or the DGAC would be acceptable for compliance with this proposed AD.

Cost Impact

The FAA estimates that 27 airplanes of U.S. registry would be affected by this proposed AD, that it would take approximately 1 work hour per airplane to accomplish the proposed inspection, and that the average labor rate is $60 per work hour. Based on these figures, the cost impact of the proposed AD on U.S. operators is estimated to be $1,620, or $60 per airplane, per inspection cycle.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-223-AD.

Applicability: Model A300 B4-620, A310-203, A310-221, and A310-222 series airplanes; certificated in any category; as listed in Airbus Service Bulletin A300-53-6120 or A310-53-2109, both dated May 5, 2000; excluding airplanes on which Airbus Modification 3632 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct fatigue cracking of fuselage frame 07 in the upper frame section assembly of the lateral cockpit windows, which could result in reduced structural integrity of the airplane, accomplish the following:

Inspection and Corrective Actions

(a) Before the accumulation of 25,000 total flight cycles, or within 3,000 flight cycles after the effective date of this AD, whichever occurs later: Perform a detailed visual inspection to detect cracking of fuselage frame 07 in the left and right upper frame section assemblies of the lateral cockpit windows, in accordance with Airbus Service Bulletin A300-53-6120 (for Model A300-600 series airplanes) or A310-53-2109 (for Model A310 series airplanes), both dated May 5, 2000; as applicable.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracking is found: Repeat the inspection thereafter at least every 7,000 flight cycles.

(2) If any cracking is found and the cracking is only in “area A,” as depicted in view B of Figure 4 of the service bulletin: Before further flight, do the actions specified by either paragraph (a)(2)(i) or (a)(2)(ii) of this AD.

(i) Do a temporary repair per the applicable service bulletin. Within 3,000 flight cycles thereafter, do a permanent repair per the applicable service bulletin. Within 32,000 flight cycles thereafter, except as required by paragraph (b) of this AD, repeat the inspection specified by paragraph (a) of this AD.

(ii) Do a permanent repair per the applicable service bulletin. Within 32,000 flight cycles thereafter, except as required by paragraph (b) of this AD, repeat the inspection specified by paragraph (a) of this AD.

(3) If any cracking is in “area B,” or in both “area A” and “area B”; as depicted in view B of Figure 4 of the service bulletin: Before further flight, do a permanent repair per the applicable service bulletin. Within 32,000 flight cycles thereafter, except as required by paragraph (b) of this AD, repeat the inspection specified by paragraph (a) of this AD.

(b) If the service bulletin specifies to contact Airbus for further instructions for a repair or inspection: Prior to further flight, perform a repair or inspection per a method approved by the Manager, International Branch, ANM-116, FAA, Transport Airplane Directorate. For a repair or inspection method to be approved by the Manager, International Branch, ANM-116, as required by this paragraph, the Manager's approval letter must specifically reference this AD.

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Note 4: The subject of this AD is addressed in French airworthiness directive 2000-263-314(B), dated June 28, 2000.

Issued in Renton, Washington, on January 3, 2001.
Dorenda D. Baker,
Acting Manager, Transport Airplane Directorate, Aircraft Certification Service.

[FR Doc. 01-510 Filed 1-8-01; 8:45 am]

BILLING CODE 4910-13-U